DEPARTMENT OF ENERGY

Floodplain/Wetlands Statement of Findings for Interim Action at the Moab Project Site

AGENCY: Department of Energy.

ACTION: Notice of statement of findings.

SUMMARY: The U.S. Department of Energy (DOE) hereby provides this Statement of Findings as required by 10 CFR part 1022 of the effects of interim action on the 100-year and 500-year floodplain of the Colorado River at the Moab Project Site near Moab, Utah. The purposes of the interim action described in this statement are to protect human health, address environmental concerns and regulatory issues, while long-term solutions to site contamination are being evaluated. An Environmental Impact Statement (EIS) is being prepared to evaluate alternatives for site remediation.

The interim action involving the floodplain at the Moab site, scheduled for 2003, involves the installation of extraction and monitor wells and a pipeline to pump contaminated ground water from the alluvial aquifer to an evaporation pond. Contaminant concentrations in the ground water underlying the floodplain exceed maximum concentration limits established in 40 CFR 192, “Health and Environmental Protection Standards for Uranium and Thorium Mill Tailings.”

A floodplain/wetlands assessment has been prepared to analyze the potential environmental effects of these actions and to evaluate alternatives. The floodplain/wetlands assessment is available to the public on the project web page at http://www.gjo.doe.gov/moab/project-docs.html. DOE will allow 15 days of public review after publication of this Statement of Findings before implementing the proposed action.

FOR FURTHER INFORMATION CONTACT: Joel D. Berwick, Moab Project Manager, U.S. Department of Energy Grand Junction Office, 2597 B 3/4 Road, Grand Junction, Colorado, 81503, (970) 248-6020, e-mail Joel.Berwick@gjo.doe.gov; fax (970) 248-6040.

For further information on general DOE floodplain/wetlands environmental review requirements, contact: Carol M. Borgstrom, Director, Office of NEPA Policy and Assistance (EH-42), U.S. Department of Energy, 1000 Independence Avenue, SW, Washington, DC 20585, (202) 586-4600 or (800) 472-2756.

SUPPLEMENTARY INFORMATION: A Notice of Intent to conduct an EIS that included a Floodplain and Wetlands Notice was published in the Federal Register on December 20, 2002, in accordance with 10 CFR part 1022.

The interim remedial action includes intercepting contaminated ground water before it reaches the Colorado River. Ground water extraction wells would be installed adjacent to the Colorado River near existing access roads to optimize the interception of contaminated ground water discharging into the river near critical fish habitat. Ground water would be pumped at the rate of approximately 3 to 5 gallons per minute per well and conveyed via pipeline to a lined evaporation pond. The evaporation pond will cover up to 8 acres and will be located outside of the 100-year floodplain, on top of the tailings pile. There is a potential for up to 2 acres of surface disturbance in the 100-year floodplain, including some clearing of tamarisk, for the installation of the extraction wells and pipeline. In accordance with 10 CFR part 1022.14, a map of the proposed interim remedial action can be found in the floodplain/wetlands assessment at http://www.gjo.doe.gov/moab/project-docs.html.

The ground water extraction system would operate continuously until a final decision is made for remedial action at the Moab Project Site. This interim action is not intended as a long-term activity. Ground water sampling will be conducted throughout the process to assess effectiveness of the system.

Alternatives evaluated for the evaporation system included up to 13 alternatives including different pond locations with sizes ranging from 3 to 10 acres, and evaporation systems including solar evaporation, spray evaporation, and apron evaporation. There is no practical alternative to locating the extraction wells and pipeline within the floodplain.

All activities will be coordinated with the appropriate federal and state agencies, including the U.S. Army Corps of Engineers, the U.S. Fish and Wildlife Service, and the Utah Division of Water Resources. Additionally, activities will conform to local floodplain requirements.

Findings: The Floodplain and Wetlands Assessment concluded that these activities would have no significant effects on the 100-year or 500-year floodplains and associated wetlands of the Colorado River and Moab Wash. Risks to human health, property, and the environment will not be increased as a result of these actions. DOE will allow 15 days after publication of this Statement of Findings before implementing these proposed actions.

Signed in Grand Junction, Colorado, this 14th day of May, 2003.
Donna Bergman-Tabbert,
Manager, DOE—Grand Junction Office.

[FR Doc. 03-13007 Filed 5-22-03; 8:45 am]

BILLING CODE 6450-01-P